DEPARTMENT OF ENERGY

Federal Energy Regulatory Commission

[Docket No. RP00-171-001]

Columbia Gulf Transmission Company; Notice of Change in Gas Tariff

February 9, 2000.

Take notice that on February 4, 2000, Columbia Gulf Transmission Company (Columbia Gulf) submitted its administrative tariff filing in Docket No. RP00-171-000. As explained in the transmittal letter, the purpose of this tariff filing was to reflect various administrative revisions to its currently effective FERC Gas Tariff, Second Revised Volume No. 1.

Subsequent to the January 28, 2000 tariff filing, Columbia Gulf Gas learned that one of the tariff sheets that was submitted as part of the filing was included in error. Columbia Gulf respectfully requests permission from the Commission to withdraw Tariff Sheet No. 216 from Columbia Gulf's January 28, 2000 administrative tariff filing. Columbia Gulf further requests that the Commission accept the remaining tariff sheets as filed and place these tariff sheets into effect as of March 1, 2000, as requested in the January 28, 2000 filing.

Columbia Gulf states further that copies of this filing have been mailed to all of its customers and affected state regulatory commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-3468 Filed 2-14-00; 8:45 am]

BILLING CODE 6717-01-M